DEPARTMENT OF HOMELAND SECURITY

[Docket No. NCS-2006-0006]

Preparedness Directorate; National Security Telecommunications Advisory Committee

AGENCY: Preparedness Directorate, DHS.

ACTION: Notice of partially closed Advisory Committee meeting.

SUMMARY: The President's National Security Telecommunications Advisory Committee (NSTAC) will be meeting by teleconference: the meeting will be partially closed.

DATES: Thursday, July 27, 2006, from 2 p.m. until 3 p.m.

ADDRESSES: The meeting will take place by teleconference. For access to the conference bridge and meeting materials, contact Mr. William Fuller at (703) 235-5521, or by e-mail at William.C.Fuller@dhs.gov by 5 p.m. on Monday, July 24, 2006. If you desire to submit comments, they must be submitted by Wednesday, July 26, 2006. Comments must be identified by NCS-2006-0006 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC 20529.

Instructions: All submissions received must include the words “Department of Homeland Security” and NCS-2006-0006, the docket number for this action. Comments received will be posted without alteration at http://www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: Kiesha.Gebreyes@dhs.gov or write the Deputy Manager, National Communications System, Department of Homeland Security, IP/NCS/N5.

SUPPLEMENTARY INFORMATION: The NSTAC advises the President on issues and problems related to implementing national security and emergency preparedness telecommunications policy. Notice of this meeting is given under the Federal Advisory Committee Act (FACA), Public Law 92-463, as amended (5 U.S.C. App.1 et seq.).

At the upcoming meeting, between 2 p.m. and 2:45 p.m., the members will receive comments from government stakeholders, receive an update from government officials on hurricane preparedness, review the NSTAC XXX work plan, discuss a request from the National Infrastructure Advisory Council (NIAC) to the NSTAC, and receive updates from the NSTAC International Scoping Group (ISG) and the Emergency Communications and Interoperability Task Force (ECITF). This portion of the meeting will be open to the public.

Between 2:45 p.m. and 3 p.m. the committee will discuss global infrastructure resiliency (GIR). This portion of the meeting will be closed to the public.

Persons with disabilities who require special assistance should indicate this when arranging for access to the teleconference and are encouraged to identify anticipated special needs as early as possible.

Pursuant to 41 CFR 102-3.150(b), this notice was published late as a result of exceptional circumstances. An administrative processing error prevented earlier publication, and the Department determined that it would be impracticable to reschedule the substantive activity scheduled for this meeting. In order to allow the greatest possible public participation, the Department has extended the usual deadlines to register public participants for the teleconference and to receive public comments. As noted above, these dates are, respectively, July 24, 2006, and July 26, 2006.

Basis for Closure: The GIR discussion will likely involve sensitive infrastructure information concerning system threats and explicit physical/cyber vulnerabilities related to current communications capabilities. Public disclosure of such information would heighten awareness of potential vulnerabilities and increase the likelihood of exploitation by terrorists or other motivated adversaries. Pursuant to section 10(d) of the Federal Advisory Committee Act, Public Law 92-463, as amended (5 U.S.C. App. 1 et seq.), the Department has determined that this discussion will concern matters which, if disclosed, would be likely to frustrate significantly the implementation of a proposed agency action. Accordingly, the relevant portion of this meeting will be closed to the public pursuant to the authority set forth in 5 U.S.C. 552b(c)(9)(B).

Dated: July 14, 2006.
George W. Foresman,
Under Secretary for Preparedness.

[FR Doc. E6-11459 Filed 7-18-06; 8:45 am]

BILLING CODE 4410-10-P